DEPARTMENT OF ENERGY

Federal Energy Regulatory Commission

[Docket No. AC07-127-000]

UGI Utilities, Inc.; Notice of Filing

May 25, 2007.

Take notice that on May 18, 2007, UGI Utilities, Inc. (“UGI”), submitted a request for a one-time change of its requirement to report in the format prescribed by the Regulations. UGI Utilities requests that it be allowed to submit its FERC financial statements and accompanying CPA Certification with respect to its 2006-07 fiscal year, rather than submit a CPA Certification with respect to its 2006 calendar-year financial statements included with the company's 2006 annual report FERC Form 1-F. In the event the Commission denies the above request, UGI Utilities asks that it be granted an extension of time to file a CPA certification with respect to its 2006 calendar year financial statements. Each utility is required to close its books at the end of each calendar year under the General Instructions in Section 101 of the Commission's regulations.

Any person desiring to intervene or to protest this filing must file in accordance with Rules 211 and 214 of the Commission's Rules of Practice and Procedure (18 CFR 385.211 or 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: June 14, 2007.

Kimberly Bose,
Secretary.

[FR Doc. E7-10547 Filed 5-31-07; 8:45 am]

BILLING CODE 6717-01-P